DEPARTMENT OF TRANSPORTATION

Federal Aviation Administration

14 CFR Part 39

[Docket No. FAA-2022-0503; Project Identifier MCAI-2021-01244-T; Amendment 39-22219; AD 2022-22-04]

RIN 2120-AA64

Airworthiness Directives; Airbus SAS Airplanes

AGENCY: Federal Aviation Administration (FAA), Department of Transportation (DOT).

ACTION: Final rule.

SUMMARY: The FAA is superseding Airworthiness Directive (AD) 2018-03-12, which applied to certain Airbus SAS Model A318 series airplanes; Model A319-111, -112, -113, -114, -115, -131, -132, and -133 airplanes; Model A320-211, -212, -214, -231, -232, and -233 airplanes; and Model A321-111, -112, -131, -211, -212, -213, -231, and -232 airplanes. AD 2018-03-12 required repetitive rototest inspections for cracking of the fastener holes in certain door stop fittings, and repair if necessary. This AD was prompted by new analysis by the manufacturer that resulted in optimized compliance times for the inspections. This AD continues to require repetitive rototest inspections for cracking of the fastener holes in certain door stop fittings at revised compliance times, and corrective actions if necessary, as specified in a European Union Aviation Safety Agency (EASA) AD, which is incorporated by reference. The FAA is issuing this AD to address the unsafe condition on these products.

DATES: This AD is effective December 30, 2022.

The Director of the Federal Register approved the incorporation by reference of a certain publication listed in this AD as of December 30, 2022.

ADDRESSES:

AD Docket: You may examine the AD docket at regulations.gov under Docket No. FAA-2022-0503; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference (IBR) in this AD, contact EASA, Konrad-Adenauer-Ufer 3, 50668 Cologne, Germany; telephone +49 221 8999 000; email ADs@easa.europa.eu; website easa.europa.eu. You may find this IBR material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-0503.

FOR FURTHER INFORMATION CONTACT: Hye Yoon Jang, Aerospace Engineer, Large Aircraft Section, FAA, International Validation Branch, 2200 South 216th St., Des Moines, WA 98198; telephone 817-222-5584; email hye.yoon.jang@faa.gov.

SUPPLEMENTARY INFORMATION:

Background

EASA, which is the Technical Agent for the Member States of the European Union, has issued EASA AD 2021-0242, dated November 8, 2021 (EASA AD 2021-0242) (also referred to as the MCAI), to correct an unsafe condition for certain Airbus SAS Model A318 series airplanes; Model A319-111, -112, -113, -114, -115, -131, -132, and -133 airplanes; Model A320-211, -212, -214, -215, -216, -231, -232, and -233 airplanes; and Model A321-111, -112, -131, -211, -212, -213, -231, and -232 airplanes. Model A320-215 airplanes are not certificated by the FAA and are not included on the U.S. type certificate data sheet; this AD therefore does not include those airplanes in the applicability.

The FAA issued a notice of proposed rulemaking (NPRM) to amend 14 CFR part 39 to supersede AD 2018-03-12, Amendment 39-19185 (83 FR 5906, February 12, 2018) (AD 2018-03-12). AD 2018-03-12 applied to certain Airbus SAS Model A318 series airplanes; Model A319-111, -112, -113, -114, -115, -131, -132, and -133 airplanes; Model A320-211, -212, -214, -231, -232, and -233 airplanes; and Model A321-111, -112, -131, -211, -212, -213, -231, and -232 airplanes. The NPRM published in the Federal Register on May 6, 2022 (87 FR 27032). The NPRM was prompted by reports of fatigue damage in the structure for the door stop fittings on certain fuselage frames, and new analysis by the manufacturer, which resulted in optimized compliance times for the inspections. The NPRM proposed to continue to require repetitive rototest inspections for cracking of the fastener holes in certain door stop fittings at revised compliance times, and corrective actions if necessary, as specified in EASA AD 2021-0242.

The FAA is issuing this AD to address cracking at the door stop fitting holes of fuselage frame (FR) 66 and FR68 which could result in reduced structural integrity of the airplane. See the MCAI for additional background information.

Discussion of Final Airworthiness Directive

Comments

The FAA received comments from one commenter, Delta Air Lines, Inc. (DAL). The following presents the comments received on the NPRM and the FAA's response to each comment.

Request To Revise Exception Language

DAL requested that the language in paragraph (h)(3) of the proposed AD be revised to clearly state that the manufacturer must be contacted only “when cracking exceeds the limits from the applicable SRM [structural repair manual]” as opposed to “if any crack is found during any inspection” as stated in the NPRM. DAL pointed out that paragraph (2) of EASA AD 2021-0242 establishes requirements if a crack is detected and identified within the limit defined in the applicable SRM, and paragraph (3) of EASA AD 2021-0242 establishes corrective action requirements when cracking exceeds the limits from the applicable SRM. DAL emphasized that paragraph (h)(3) of the proposed rule does not make that distinction and that the exception specifies that any cracking found must be repaired before further flight. Because of this omission and the use of the verbiage “if any crack is found during any inspection,” DAL reasoned that paragraph (h)(3) of the proposed AD indicates that it applies to all instances of cracking, regardless of whether it exceeds SRM limits. DAL suggested that the exception paragraph would drive operators to obtain the specified level of approval for all crack findings from the required inspections, even if there are SRM approved repairs that are addressed by paragraph (2) of EASA AD 2021-0242.

The FAA agrees to clarify. Paragraph (h)(3) of this AD is included to ensure that any cracks are repaired before further flight, and applies only to the cracks specified in paragraph (3) of EASA AD 2021-0242 (i.e., those found during the rototest inspections and exceeding the applicable SRM limit). Paragraph (3) of EASA AD 2021-0242 specifies to contact Airbus for instructions before further fight, but does not specify that the repair must be done before further flight. Since FAA policy does not allow flights with known cracks, an exception is needed to clarify the compliance time. The FAA notes that paragraph (2) of EASA AD 2021-0242 specifies accomplishing repair and corrective actions before further flight, so a similar exception is not needed for that action. However, the FAA agrees that clarification related to which cracks the language in paragraph (h)(3) of this AD applies to would be helpful. Therefore, the FAA has revised paragraph (h)(3) of this AD to specify that the actions are required only for cracks that exceed the applicable SRM limits.

Request To Include a New Exception

DAL requested that the FAA include an additional exception to the proposed AD that clarifies the “contact Airbus” language in paragraphs (5.2) and (6) of EASA AD 2021-0242. DAL noted that paragraphs (5.2) and (6) of EASA AD 2021-0242 require contacting Airbus, and reasoned that an exception similar to that in paragraph (h)(3) of the proposed AD would be needed. DAL pointed out that the language used in paragraphs (5.2) and (6) of EASA AD 2021-0242 is related to providing credit for actions that have been accomplished, rather than providing a corrective action like in paragraph (3) of EASA AD 2021-0242, so different language would be needed. DAL provided suggested wording, and stated that its proposed exception would ensure that the same actions are mandated at all instances where EASA AD 2021-0242 requires contacting the manufacturer.

The FAA agrees to clarify. Paragraph (j)(2) of this AD already specifies what actions to take in instances where the EASA AD or related service information specifies to contact the manufacturer. As explained previously, paragraph (h)(3) of this AD is needed to clarify the compliance time for crack repair, rather than simply clarifying who to contact for instructions. Therefore, an additional exception is not needed and this AD has not been changed regarding this issue.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2021-0242 specifies procedures for rototest inspections for cracking of the fastener holes in the airframe structure for the door stop fittings installation in FR66 and FR68, and corrective actions. Corrective actions include repair or modification of fastener holes at door stop locations. This material is reasonably available because the interested parties have access to it through their normal course of business or by the means identified in the ADDRESSES section.

Costs of Compliance

The FAA estimates that this AD affects 1,084 airplanes of U.S. registry. The FAA estimates the following costs to comply with this AD:

Estimated Costs for Required Actions
Action | Labor cost | Parts cost | Cost per product | Cost on U.S. operators
Inspections | Up to 25 work-hours × $85 per hour = $2,125 | $0 | Up to $2,125 | Up to $2,303,500.

The FAA estimates the following costs to do any necessary on-condition modifications that would be required based on the results of any required actions. The FAA has no way of determining the number of aircraft that might need these on-condition modifications:

Estimated Costs of On-Condition Actions
Labor cost | Parts cost | Cost per product
Up to 27 work-hours × $85 per hour = $2,295 | $610 | Up to $2,905.

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) AD 2018-03-12, Amendment 39-19185 (83 FR 5906, February 12, 2018) (AD 2018-03-12); and

b. Adding the following new AD:

2022-22-04 Airbus SAS: Amendment 39-22219; Docket No. FAA-2022-0503; Project Identifier MCAI-2021-01244-T.

(a) Effective Date

This airworthiness directive (AD) is effective December 30, 2022.

(b) Affected ADs

This AD replaces AD 2018-03-12, Amendment 39-19185 (83 FR 5906, February 12, 2018) (AD 2018-03-12).

(c) Applicability

This AD applies to Airbus SAS Model airplanes specified in paragraphs (c)(1) through (4) of this AD, certificated in any category, as identified in European Union Aviation Safety Agency (EASA) AD 2021-0242, dated November 8, 2021 (EASA AD 2021-0242).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Reason

This AD was prompted by reports of fatigue damage in the structure for the door stop fittings on certain fuselage frames, and new analysis by the manufacturer, which resulted in optimized compliance times for the inspections. The FAA is issuing this AD to address cracking at the door stop fitting holes of fuselage frame (FR) 66 and FR68, which could result in reduced structural integrity of the airplane.

(f) Compliance

Comply with this AD within the compliance times specified, unless already done.

(g) Requirements

Except as specified in paragraph (h) of this AD: Comply with all required actions and compliance times specified in, and in accordance with, EASA AD 2021-0242.

(h) Exceptions to EASA AD 2021-0242

(1) Where EASA AD 2021-0242 refers to its effective date, this AD requires using the effective date of this AD.

(2) The “Remarks” section of EASA AD 2021-0242 does not apply to this AD.

(3) Where paragraph (3) of EASA AD 2021-0242 specifies “if, during any inspection as required by paragraph (1) of this [EASA] AD, a crack is detected and identified exceeding the limit defined in the applicable SRM [structural repair manual]” to “contact Airbus for approved instructions for corrective action and accomplish those instructions accordingly,” replace those phrases with the following phrase: “if any cracking is found and exceeding the limit defined in the applicable SRM, the cracking must be repaired before further flight using a method approved by the Manager, Large Aircraft Section, International Validation Branch, FAA; or EASA; or Airbus SAS's EASA Design Organization Approval (DOA). If approved by the DOA, the approval must include the DOA-authorized signature.”

(4) Where paragraphs (2), (3), (5), and (5.1) of EASA AD 2021-0242 specify limits or actions in “the applicable SRM” or “the SRM,” for purposes of this AD, replace those phrases with the following phrase: “the applicable SRM as specified in the instructions of the inspection SB.”

(i) No Reporting Requirement

Although the service information referenced in EASA AD 2021-0242 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(i) Before using any approved AMOC, notify your appropriate principal inspector, or lacking a principal inspector, the manager of the responsible Flight Standards Office.

(ii) AMOCs approved previously for AD 2018-03-12 are approved as AMOCs for the corresponding provisions of EASA AD 2021-0242 that are required by paragraph (g) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Hye Yoon Jang, Aerospace Engineer, Large Aircraft Section, FAA, International Validation Branch, 2200 South 216th St., Des Moines, WA 98198; telephone 817-222-5584; email hye.yoon.jang@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0242, dated November 8, 2021.

(ii) [Reserved]

(3) For EASA AD 2021-0242, contact EASA, Konrad-Adenauer-Ufer 3, 50668 Cologne, Germany; telephone +49 221 8999 000; email ADs@easa.europa.eu; internet easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on October 20, 2022.
Christina Underwood,
Acting Director, Compliance & Airworthiness Division, Aircraft Certification Service.

[FR Doc. 2022-25509 Filed 11-23-22; 8:45 am]

BILLING CODE 4910-13-P